DEPARTMENT OF AGRICULTURE

Submission for OMB Review; Comment Request

March 31, 2005.

The Department of Agriculture has submitted the following information collection requirement(s) to OMB for review and clearance under the Paperwork Reduction Act of 1995, Pub. L. 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Public Perceptions of Wildfire Management Within the Southern California Wildland-Urban Interface.

OMB Control Number: 0596-NEW.

Summary of Collection: Recent wildfires in the Western United States and the resultant public response to the devastation caused by them highlights the need for understanding the human dimensions of forest and wildfire management. Because the impacts of wildland fire extend beyond public land boundaries into the private communities lying on their periphery, understanding their response to the loss of public and private property is important. Public land management agencies need a better understanding of local preferences for management opinions and of community needs, particularly from those residing within the wildland-urban interface. Information will be collected from residents of communities adjacent to a National Forest in Southern California and from visitors to the same National Forest area. The Forest Service (FS) will collect information using a self-administered questionnaire and onsite interviews. The authorities for this collect can be found at Pub. L. 95-307, Forest and Rangeland Renewable Resources Research Act of 1978 and Pub. L. 108-148, Healthy Forest Initiative and Healthy Forests Restoration Act.

Need and Use of the Information: The information collected will provide forest managers with greater understanding of public attitudes, preferences, and behaviors related to the FS' wildland fire management practices and policies, information about respondent's own behavior related to hazard reduction and preparedness, and respondents' knowledge of FS fire management program, such as Firewise.

Description of Respondents: Individuals or households; Federal Government.

Number of Respondents: 2,000.

Frequency of Responses: Reporting: On occasion.

Total Burden Hours: 667.

Ruth Brown,
Departmental Information Collection Clearance Officer.

[FR Doc. 05-6787 Filed 4-5-05; 8:45 am]

BILLING CODE 3410-11-M